DEPARTMENT OF TRANSPORTATION

Federal Aviation Administration

Notice of Availability of the Final Tiered Environmental Assessment and Finding of No Significant Impact for SpaceX Starship Indian Ocean Landings

AGENCY: Federal Aviation Administration (FAA), Department of Transportation (DOT).

ACTION: Notice of availability.

SUMMARY: In accordance with the National Environmental Policy Act of 1969, as amended (NEPA), Council on Environmental Quality NEPA-implementing regulations, and FAA Order 1050.1F, Environmental Impacts: Policies and Procedures, the FAA is announcing the availability of the Final Tiered Environmental Assessment and Finding of No Significant Impact/Record of Decision for SpaceX Starship Indian Ocean Landings (Final Tiered EA and FONSI/ROD).

FOR FURTHER INFORMATION CONTACT: Amy Hanson, Environmental Protection Specialist, Federal Aviation Administration, 800 Independence Avenue SW, Suite 325, Washington, DC 20591; phone 847-243-7609; email amy.hanson@faa.gov.

SUPPLEMENTARY INFORMATION: The FAA is the lead agency. The FAA evaluated SpaceX's proposal to land its Starship vehicle in the Indian Ocean. The proposal would require the FAA to modify SpaceX's vehicle operator license along with potential renewals and modifications to the license within the scope of operations. SpaceX's Proposed Action is to analyze the potential for up to a total of ten nominal operations, including up to a maximum of five overpressure events from Starship intact impact and up to a total of five reentry debris or soft water landings in the Indian Ocean, within a year of issuance of a NMFS concurrence letter.

The Final Tiered EA evaluated the potential environmental impacts of the Proposed Action and the No Action Alternative. Under the No Action Alternative, the FAA would not modify SpaceX's license for landing the Starship vehicles in the Indian Ocean. In this situation, as permitted under existing licenses, SpaceX could land the Starship vehicle at the VLA or downrange in the Gulf of Mexico, or Pacific Ocean (on a floating platform or expended in the Pacific Ocean).

The FAA has posted the Final Tiered EA and FONSI/ROD on the FAA Office of Commercial Space Transportation website: https://www.faa.gov/space/stakeholder_engagement/spacex_starship.

Issued in Washington, DC, on: March 12, 2024.
Stacey M. Zee,
Manager, Operations Support Branch.

[FR Doc. 2024-05648 Filed 3-15-24; 8:45 am]

BILLING CODE 4910-13-P